DEPARTMENT OF JUSTICE

Notice of Lodging of Consent Decree Under the Comprehensive Environmental Response, Compensation and Liability Act (“CERCLA”)

Pursuant to section 122(d)(2) of CERCLA, 42 U.S.C. 9622(d)(2), notice is hereby given that on May 24, 2004, a proposed Consent Decree in United States v. Weyerhaeuser Company, Civil Action No. 4:04-CV-77-FL(1) was lodged with the United States District Court for the Eastern District of North Carolina.

In this action the United States sought to require the Defendant Weyerhaeuser Company to conduct remedial design and remedial action to address releases and threatened releases of hazardous substances at the Weyerhaeuser Company Plymouth Wood Treating Plant Superfund Site (“Site”) near the town of Plymouth in Martin County, North Carolina. The United States also sought to recover certain past and future costs incurred by the Environmental Protection Agency (EPA) during the performance of response actions at the Site.

Under the Consent Decree, the Defendant will perform the remedial design and remedial action at Operable Unit #3, a former chlorine plant and surrounding areas at the Site, pursuant to the September 29, 2003, Record of Decision (ROD). The Defendant will also reimburse the Hazardous Substance Superfund for EPA's response costs incurred after June 24, 2003, at or in connection with Operable Unit 3.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Weyerhaeuser Company, 4:04-CV-77-FL(10 (E.D.N.C.), DOJ Ref. 90-11-3-07838/1.

The Consent Decree may be examined at the Office of the United States Attorney, Eastern District of North Carolina, 310 New Bern Avenue, Suite 800, Raleigh, North Carolina 27601, and at EPA Region 4, Atlanta Federal Center, 61 Forsyth Street, SW., Atlanta, Georgia 30303. During the public comment period, the Consent Decree may also be examined on the following Department of Justice Web site: http://www.usdoj.gov/enrd/open.htm. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States v. Weyerhaeuser Company (E.D.N.C.), DOJ Ref. 90-11-3-07838, and enclose a check in the amount of $40.50 (25 cents per page reproduction cost) payable to the U.S. Treasury.

Ellen M. Mahan,
Assistant Section Chief, Environmental Enforcement Section, Environment & Natural Resources Division.

[FR Doc. 04-12623 Filed 6-3-04; 8:45 am]

BILLING CODE 4410-15-M